DEPARTMENT OF ENERGY

Federal Energy Regulatory Commission

[Docket No. CP13-497-000]

Southern Union Company, d/b/a Missouri Gas Energy; Laclede Gas Company; Notice of Application

Take notice that on June 12, 2013, Southern Union Company, d/b/a Missouri Gas Energy (MGE Southern Union), 3420 Broadway, Kansas City, Missouri 64111, and Laclede Gas Company (Laclede), 720 Olive Street, St. Louis, Missouri 63101, jointly filed in Docket No. CP13-497-000 an application: (1) Requesting authorization for MGE Southern Union pursuant to section 7(b) of the Natural Gas Act (NGA) to abandon by transfer to Laclede its limited jurisdiction certificate to transport gas on a no-fee exchange basis and (2) for Laclede pursuant to section 7(c) of the NGA to be issued a limited jurisdiction certificate for the purpose of transporting natural gas in the same manner as MGE Southern Union. In addition, Laclede requests: (1) a determination that the limited jurisdiction certificate will not affect the non-jurisdictional status of the remainder of its facilities and operations and (2) that the Commission waive the requirements of Part 154 of the Commission's Regulations for as long as no fee is charged by Laclede for the exchange.

Specifically, MGE Southern Union and Laclede are public utilities providing natural gas service in Missouri. Pursuant to its limited jurisdiction certificate issued on January 12, 1994, in Docket No. CP93-750-000, MGE Southern Union also provides transportation service on a no-fee exchange basis through its Missouri facilities to supply a few stranded retail customers of ONEOK, Inc. located in Kansas and Oklahoma. Southern Union Company and Laclede have entered into an agreement whereby Laclede will acquire the assets of MGE Southern Union utilized to provide such service to ONEOK's stranded customers. The requested authorizations will allow Laclede to continue such service in the same manner as MGE Southern Union. No construction of facilities is proposed. The applicants request that an order be issued by July 31, 2013 granting the requested authorizations.

Any questions regarding the joint application should be directed to: Gearold L. Knowles, Attorney for Missouri Gas Energy, Schiff Hardin LLP, 901 K Street NW., Suite 700, Washington, DC 20001, by phone at (202) 778-6400, or by email at gknowles@schiffhardin.com; or Mark C. Darrell, Senior Vice President, General Counsel and Chief Compliance Officer, The Laclede Group, Inc., 720 Olive Street, St. Louis, Missouri 63101, by email at mdarrell@thelacledegroup.com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 7 copies of the protest or intervention to the Federal Energy Regulatory Commission, 888 First Street NE., Washington, DC 20426. This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: July 1, 2013.

Dated: June 14, 2013.
Kimberly D. Bose,
Secretary.

[FR Doc. 2013-14730 Filed 6-19-13; 8:45 am]

BILLING CODE 6717-01-P